ENVIRONMENTAL PROTECTION AGENCY

[EPA-HQ-OPP-2024-0023; FRL-11670-01-OCSPP]

Agency Information Collection Activities; Proposed Renewal of an Existing ICR Collection and Request for Comment; Standards for Pesticide Containers and Containment

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Standards for Pesticide Container and Containment,” identified by EPA ICR No. 1632.07 and OMB Control No. 2070-0133. This ICR represents a renewal of an existing ICR that is currently approved through January 31, 2025. Before submitting the ICR to OMB for review and approval under the PRA, EPA is soliciting comments on specific aspects of the information collection that is summarized in this document. The ICR and accompanying material are available in the docket for public review and comment.

DATES: Comments must be received on or before June 21, 2024.

ADDRESSES: Submit your comments, identified by docket identification (ID) number EPA-HQ-OPP-2024-0023, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Siu, Mission Support Division (7602M), Office of Program Support, Office of Chemical Safety and Pollution Prevention, Environmental Protection Agency, 1200 Pennsylvania Ave. NW, Washington, DC 20460-0001; telephone number: (703) 719-1649; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Standards for Pesticide Containers and Containment.

EPA ICR No.: 1632.07.

OMB Control No.: 2070-0133.

ICR status: This ICR is currently approved through January 31, 2025. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers the information collection activities associated with the pesticide container design and residue removal requirements and containment structure requirements. With respect to the container design and residue removal requirements, the information collection activities are associated with the requirement that businesses subject to the container regulations (pesticide registrants) and repackaging regulations (pesticide registrants and refillers) maintain records of test data, cleaning procedures, certain data when a container is refilled, and other supporting information. These records are subject to both call-in by EPA and on-site inspection by EPA and its representatives. EPA has not established a regular schedule for the collection of these records, and there is no reporting. With respect to the containment structure requirements, the information collection activities are associated with the requirement that businesses subject to the containment structure regulations maintain records of the: (1) Monthly inspection and maintenance of each containment structure and all stationary bulk containers; (2) Duration over which non-stationary bulk containers holding pesticide and not protected by a secondary containment unit remain at the same location; and (3) Construction date of the containment structure. The businesses subject to the containment structure regulations include agrichemical retailers and refilling establishments, custom blenders and commercial applicators of agricultural pesticides. The records have to be maintained by the owners and operators of such businesses and made available to inspectors to ensure that businesses are in compliance with containment requirements. These inspections are generally conducted by the states, which enforce FIFRA regulations through cooperative agreements with EPA.

Burden statement: The annual public reporting and recordkeeping burden for this collection of information is estimated to average 7.5 hours per response for container regulations and 4 hours per response for containment regulations. Burden is defined in 5 CFR 1320.3(b).

The ICR, which is available in the docket along with other related materials, provides a detailed explanation of the collection activities and the burden estimate that is only briefly summarized here:

Respondents/affected entities: Entities potentially affected are those that are part of the regulated community affected by the container design and residue removal regulations which includes businesses that formulate pesticide products or repackage pesticide products into refillable containers. The ICR includes a list of potentially affected entities with North American Industrial Classification System (NAICS) codes provided to assist in determining potential applicability.

Respondent's obligation to respond: Mandatory under sections 3, 8, 19 and 25 of the Federal Insecticide, Fungicide, and Rodenticide Act (FIFRA)(7 U.S.C. 136f, 136q, and 136w).

Forms: None.

Frequency of response: Occasional.

Total estimated number of potential respondents: 23,586.

Total estimated average number of responses for each respondent: 1.

Total estimated annual burden hours: 180,763 hours.

Total estimated annual costs: $10,864,043. This includes total burden costs of $10,444,168 and $419,875 of capital investment or maintenance and operational costs.

III. Are there changes in the estimates from the last approval?

There is no change in the number of burden hours as there are no programmatic updates to changes identified in the ICR currently approved by OMB. The change in costs for the regulated community are $1,410,512. The change is costs are based on BLS wage rate adjustments. There is also an increase in capital costs of $83,975 due to an increase in costs for agricultural pesticide refiller. These changes qualify as adjustments.

In addition, OMB requested that EPA replace the format the Agency has historically used for ICR Supporting Statements with the 18-question format that is used by other federal agencies and departments. The 18-question format is based on the submission instructions to agencies that appear on the OMB submission form. Although this supporting statement has been modified to reflect the 18-question format, the change in format did not change the information collection activities or related estimated burden and costs. EPA welcomes your feedback on whether this improves the presentation of the information collection activities and related burden and costs estimates.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: April 17, 2024.
Michal Freedhoff,
Assistant Administrator, Office of Chemical Safety and Pollution Prevention.

[FR Doc. 2024-08555 Filed 4-19-24; 8:45 am]

BILLING CODE 6560-50-P